Title 3—

The President

Proclamation 10858 of November 14, 2024

America Recycles Day, 2024

By the President of the United States of America

A Proclamation

On America Recycles Day, we recognize the important role recycling plays in helping secure a more sustainable and prosperous future for generations to come. We show our gratitude for all the people who work hard to make sure we limit our waste and responsibly steward our national resources. And we recommit to building a Nation where we address the existential risk of climate change and where everyone can enjoy the benefits of a greener world.

Producing and processing the materials we use every day cause more than a third of the world's greenhouse gas emissions, contributing to the threat of climate change. The health and well-being of too many people suffer due to the damaging effects of pollution and the toxins released when waste is landfilled, dumped, or incinerated. That is why it is so important to reduce waste and recycle. When we reduce waste, we conserve the energy and natural resources needed to make these materials. And when we recycle, we give these materials another life—reducing the need for more production. But recycling is still too difficult. Too many Americans are unsure of where and which materials can be recycled. And when materials do end up in recycling, municipalities struggle to find markets for them.

To make recycling easier and more efficient, my Bipartisan Infrastructure Law made the largest investment in recycling in nearly three decades. It has launched hundreds of new projects that are helping to support manufacturing, improve waste management, advance environmental justice, and educate people about recycling. My Administration also released the first comprehensive, Government-wide strategy to limit the harms of plastic pollution at production, processing, use, and disposal, and we announced a goal to end the use of single-use plastics in the Federal Government by 2035. We also crafted the first-ever National Strategy for Reducing Food Loss and Waste and Recycling Organics to coordinate agencies in recycling organic materials like food waste while cutting costs for families. At the same time, we have been pursuing the initiatives outlined in our National Recycling Strategy to improve our recycling and waste management systems, working to find ways to better collect recyclable products, reach markets for these materials, and develop new technologies that will protect public health and the environment. All this contributes to my Administration's ambitious work to reach net-zero greenhouse gas emissions by 2050—to that end, my Inflation Reduction Act made the largest investment in climate action in history.

We have made important progress toward building an economy that values recycling, but there is still more to do. Each of us can play a role in protecting our natural environment and addressing the existential risk of climate change by recycling—remember to dispose of waste in the proper bins whenever possible, reuse containers, compost food, and use products made with recycled materials. I call on manufacturers and corporations to ensure their products and materials are reusable and recyclable when possible and limit the use of non-recyclable packaging. On America Recycles Day, may we recommit to building a better, healthier future through recycling.

NOW, THEREFORE, I, JOSEPH R. BIDEN JR., President of the United States of America, by virtue of the authority vested in me by the Constitution and the laws of the United States, do hereby proclaim November 15, 2024, as America Recycles Day. I call upon the people of the United States of America to observe this day with appropriate programs and activities, and I encourage all Americans to continue their environmental efforts by recycling throughout the year.

IN WITNESS WHEREOF, I have hereunto set my hand this fourteenth day of November, in the year of our Lord two thousand twenty-four, and of the Independence of the United States of America the two hundred and forty-ninth.

[FR Doc. 2024-27258

Filed 11-18-24; 11:15 am]

Billing code 3395-F4-P